NATIONAL CREDIT UNION ADMINISTRATION

12 CFR Part 702

Prompt Corrective Action; Correction

AGENCY: National Credit Union Administration (NCUA).

ACTION: Final Rule; corrections.

SUMMARY: Four technical errors appear in the part 702 final rule implementing a system of prompt corrective action for federally-insured credit unions. The first and second errors appear in the Federal Register of February 18, 2000, in a footnote to the supplementary information section and in the provision of subpart A entitled “Net worth measures,” respectively. The third and fourth errors appear in the Federal Register of July 20, 2000, in the supplementary information section entitled “Impact of Final Rule” and in the instruction to amend the provision of subpart C entitled “Net worth categories,” respectively. This final rule corrects these errors and makes no substantive change to part 702.

DATES: Effective January 1, 2001.

FOR FURTHER INFORMATION CONTACT: Steven W. Widerman, Trial Attorney, Office of General Counsel, telephone 703/518-6557, National Credit Union Administration, 1775 Duke Street, Alexandria, VA 22314-3428.

SUPPLEMENTARY INFORMATION:

In the final rule document 00-3276, published on February 18, 2000 (65 FR 8560), the following corrections are made:

1. On page 8575, third column, footnote 19, remove from the second sentence the words “or liquidation” and the citation “1787(a)(1)(b)”.

§ 702.101 [Amended]

2. On page 8585, first column, § 702.101(a)(2), add the words “If determined to be applicable under § 702.103, a” in paragraph (a)(2) in place of the words “If defined as ‘complex' under § 702.104, the applicable.”

In the final rule document 00-18278, published on July 20, 2000 (65 FR 44950), the following corrections are made:

1. On page 44964, second column, second full sentence following the heading “E. Impact of Final Rule,” add “.008 percent” in place of “2.3 percent”, and add “.0011 percent” in place of “.08 percent”.

2. Correct amendatory instruction 8 on page 44974 to read as follows: 8. Section 702.302 is amended by removing the phrase “and any risk-based net worth requirement applicable to a new credit union defined as ‘complex' under §§ 702.103 through 702.106” from paragraph (a); by removing the phrase “and also meets any applicable risk-based net worth requirement under §§ 702.105 and 702.106” from paragraphs (c)(1) and (c)(2); and by removing the phrase “or fails to meet any applicable risk-based net worth requirement under §§ 702.105 and 702.106” from paragraph (c)(3).

By the National Credit Union Administration Board on September 5, 2000.
Becky Baker,
Secretary of the Board.

[FR Doc. 00-23465 Filed 9-13-00; 8:45 am]

BILLING CODE 7535-01-U